NUCLEAR REGULATORY COMMISSION

[Project No. 99902069; NRC-2023-0138]

Kairos Power, LLC; Receipt of Construction Permit Application

AGENCY: Nuclear Regulatory Commission.

ACTION: Construction permit application; receipt.

SUMMARY: The U.S. Nuclear Regulatory Commission (NRC) is providing public notice of receipt and availability of an application for construction permits for a two-unit reactor facility from Kairos Power, LLC. The application for the construction permits was received on July 14, 2023.

DATES: August 4, 2023.

ADDRESSES: Please refer to Docket ID NRC-2023-0138 when contacting the NRC about the availability of information regarding this document. You may obtain publicly available information related to this document using any of the following methods:

• Federal Rulemaking Website: Go to https://www.regulations.gov and search for Docket ID NRC-2023-0138. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

FOR FURTHER INFORMATION CONTACT: Michael Orenak, Office of Nuclear Reactor Regulation, U.S. Nuclear Regulatory Commission, Washington, DC 20555-0001; telephone: 301-415-3229; email: Michael.Orenak@nrc.gov.

SUPPLEMENTARY INFORMATION:

I. Discussion

On July 14, 2023, Kairos Power LLC (Kairos) filed, pursuant to section 104c of the Atomic Energy Act, as amended, part 50 of title 10 of the Code of Federal Regulations (10 CFR), “Domestic Licensing of Production and Utilization Facilities,” an application for two construction permits for a two-unit test reactor facility located in Oak Ridge, Tennessee. The two-unit facility is to be identified as Hermes 2, and both units are based on a high-temperature fluoride salt-cooled design that utilizes solid tri-structural isotropic fuel.

The application is available in ADAMS under Package Accession No. ML23195A121. Along with other documents, the ADAMS package includes the transmittal letter (ADAMS Accession No. ML23195A122), the preliminary safety analysis report (ADAMS Accession No. ML23195A124), and the environmental report (ADAMS Accession No. ML23195A125). The information submitted by the applicant includes certain administrative information such as financial qualifications submitted pursuant to 10 CFR 50.33, technical information submitted pursuant to 10 CFR 50.34, and the environmental report submitted pursuant to 10 CFR part 51, “Environmental Protection Regulations for Domestic Licensing and Related Regulatory Functions.”

The NRC staff is currently undertaking its acceptance review of the application. If the application is accepted for docketing, subsequent Federal Register notices will be issued that address the acceptability of the tendered construction permit application for docketing and provisions for participation of the public in the permitting process.

Dated: July 31, 2023.
For the Nuclear Regulatory Commission.
Michael D. Orenak,
Project Manager, Advanced Reactor Licensing Branch 1, Division of Advanced Reactors and Non-Power Production and Utilization Facilities, Office of Nuclear Reactor Regulation.

[FR Doc. 2023-16605 Filed 8-3-23; 8:45 am]

BILLING CODE 7590-01-P